DEPARTMENT OF EDUCATION

[Docket No.: ED-2023-SCC-0079]

Agency Information Collection Activities; Submission to the Office of Management and Budget for Review and Approval; Comment Request; Application and Employment Certification for Public Service Loan Forgiveness

AGENCY: Federal Student Aid (FSA), Department of Education (ED).

ACTION: Notice.

SUMMARY: In accordance with the Paperwork Reduction Act (PRA) of 1995, the Department is proposing an extension without change of a currently approved information collection request (ICR).

DATES: Interested persons are invited to submit comments on or before October 10, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Beth Grebeldinger, 202-377-4018.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Application and Employment Certification for Public Service Loan Forgiveness.

OMB Control Number: 1845-0110.

Type of Review: Extension without change of a currently approved ICR.

Respondents/Affected Public: Individuals or Households.

Total Estimated Number of Annual Responses: 913,713.

Total Estimated Number of Annual Burden Hours: 456,857.

Abstract: The Department of Education (Department) is requesting an emergency clearance for this renewal of the revision of the information collection, 1845-0110. Additionally, we are requesting that the full clearance package be filed at the same time and that the Department will initiate the 60-day public comment period upon notification of emergency approval. The PSLF program was revised during the Negotiated Rulemaking process in 2021 resulting in Final Rule for the Public Service Loan Forgiveness (PSLF) Program that were published in the Federal Register on November 1, 2022 (87 FR 65904) and continue to be codified in 34 CFR 685.219. Concurrent with these new regulations, the Department implemented the ability for the borrower and employer to digitally sign and submit the PSLF Form electronically through our Digital Platform. The PSLF form was redesigned to encourage the use of the new signature options and align the instructions on the form to mimic the user experience connected to the online submission. This new form will not be available until the regulations become effective on July 1, 2023.

Dated: August 31, 2023.
Kun Mullan,
PRA Coordinator, Strategic Collections and Clearance, Governance and Strategy Division, Office of Chief Data Officer, Office of Planning, Evaluation and Policy Development.

[FR Doc. 2023-19243 Filed 9-6-23; 8:45 am]

BILLING CODE 4000-01-P